DEPARTMENT OF TRANSPORTATION

Federal Aviation Administration

14 CFR Part 39

[Docket No. 2000-NM-391-AD; Amendment 39-12080; AD 2001-01-10]

RIN 2120-AA64

Airworthiness Directives; Boeing Model 747-400, 747-400F, 767-200, and 767-300 Series Airplanes Equipped With Pratt & Whitney Model PW4000 Series Engines

AGENCY: Federal Aviation Administration, DOT.

ACTION: Final rule; request for comments.

SUMMARY: This amendment adopts a new airworthiness directive (AD) that is applicable to all Boeing Model 747-400, 747-400F, 767-200, and 767-300 series airplanes equipped with Pratt & Whitney Model PW4000 series engines. This action requires revising the Airplane Flight Manual (AFM). This action is necessary to prevent reduced acceleration and climb performance relative to performance data in the AFM, which could result in runway overruns or impact with obstacles or terrain. This action is intended to address the identified unsafe condition.

DATES: Effective February 6, 2001.

The incorporation by reference of certain publications listed in the regulations is approved by the Director of the Federal Register as of February 6, 2001.

Comments for inclusion in the Rules Docket must be received on or before March 23, 2001.

ADDRESSES: Submit comments in triplicate to the Federal Aviation Administration (FAA), Transport Airplane Directorate, ANM-114, Attention: Rules Docket No. 2000-NM-391-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-391-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Dennis Kammers, Aerospace Engineer, Propulsion Branch, ANM-140S, FAA, Seattle Aircraft Certification Office, 1601 Lind Avenue, SW., Renton, Washington 98055-4056; telephone (425) 227-2956; fax (425) 227-1181.

SUPPLEMENTARY INFORMATION: The FAA has received reports that Pratt & Whitney Model PW4000 series engines with certain early-production fan blades (Phase 0/1, FB2B or FB2T) installed on Boeing Model 747-400, 747-400F, 767-200, and 767-300 series airplanes do not produce the amount of thrust indicated in the Airplane Flight Manual (AFM). This thrust shortfall is due to erosion of the fan blade's leading edge. The flight crew has no indication of this shortfall in thrust. This condition results in reduced acceleration and climb performance relative to performance data in the AFM, which, if not corrected, could result in an overrun of the runway or impact with an obstacle or terrain.

Explanation of Relevant Service Information

The FAA has reviewed and approved Boeing Telex M-7200-00-02672, dated November 1, 2000, including two attachments titled, “Performance for Operation of PW4000 Series Engines with FB2B or FB2T Fans Installed[,] 747-400,” and “Performance for Operation of PW4000 Series Engines with FB2B or FB2T Fans Installed[,] 767-200/767-300,” both dated November 1, 2000. The telex and its attachments contain performance adjustments for the AFM for Model 747-400, 747-400F, 767-200, and 767-300 series airplanes equipped with one or more Pratt & Whitney Model PW4000 series engines with early production fan blades. Inclusion of these performance adjustments in the AFM addresses the unsafe condition associated with the shortfall in thrust caused by the early production fan blades.

Explanation of the Requirements of the Rule

Since an unsafe condition has been identified that is likely to exist or develop on other airplanes of the same type design, this AD is being issued to prevent reduced acceleration and climb performance relative to performance data in the AFM, which could result in runway overruns or impact with obstacles or terrain. This AD requires accomplishment of the actions specified in the telex and attachments described previously, except as discussed below.

Differences Between Telex and This AD

Operators should note that, although the telex states that the airplane manufacturer was advised that the FAA would recommend a compliance time of 45 days after the effective date of the AD for the actions in the telex, paragraph (a) of this AD actually requires revising the AFM within 30 days after the effective date of this AD. In developing an appropriate compliance time for this AD, the FAA considered not only the manufacturer's recommendation, but the degree of urgency associated with addressing the subject unsafe condition, the average utilization of the affected fleet, and the time necessary to revise the AFM. In light of all of these factors, the FAA finds a 30-day compliance time for completing the required actions to be warranted, in that it represents an appropriate interval of time allowable for affected airplanes to continue to operate without compromising safety.

Operators also should note that this AD applies to all Boeing Model 747-400, 747-400F, 767-200, and 767-300 series airplanes equipped with Pratt & Whitney Model PW4000 series engines. For airplanes that have current-production fan blades (Phase 3, FB2C) installed on all engines, the performance adjustments in the attachments to the telex referenced above are not applicable. However, this AD requires revision of the AFM for all airplanes to address the potential for future installation of early production fan blades (Phase 0/1, FB2B or FB2T). Note 1 is included in this AD to clarify this point.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-391-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-01-10 Boeing: Amendment 39-12080. Docket 2000-NM-391-AD.

Applicability: Model 747-400, 747-400F, 767-200, and 767-300 series airplanes equipped with Pratt & Whitney Model PW4000 series engines; certificated in any category.

Note 1: For airplanes that have current-production fan blades (Phase 3, FB2C) installed on all engines, the performance adjustments in the attachments to Boeing Telex M-7200-00-02672, dated November 1, 2000, as referenced in this AD, are not applicable. However, this AD requires revising the Airplane Flight Manual (AFM) for all airplanes to address the potential for future installation of certain early-production fan blades (Phase 0/1, FB2B or FB2T).

Note 2: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent reduced acceleration and climb performance, relative to performance data in the AFM, which could result in runway overruns or impact with obstacles or terrain, accomplish the following:

AFM Revision

(a) Within 30 days after the effective date of this AD, revise the FAA-approved AFM by inserting a copy of this AD with Boeing Telex M-7200-00-02672, dated November 1, 2000, including the performance adjustments in “Performance for Operation of PW4000 Series Engines with FB2B or FB2T Fans Installed[,] 747-400,” (for Boeing Model 747-400 and 747-400F series airplanes) or “Performance for Operation of PW4000 Series Engines with FB2B or FB2T Fans Installed[,] 767-200/767-300,” (for Boeing Model 767-200 and -300 series airplanes), both dated November 1, 2000, as applicable.

(b) When the information in Boeing Telex M-7200-00-02672 and its attachments have been incorporated into FAA-approved general revisions of the AFM, the general revisions may be incorporated in the AFM, and this AD with the telex and its attachments may be removed from the AFM.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Telex M-7200-00-02672, including Attachments “Performance for Operation of PW4000 Series Engines with FB2B or FB2T Fans Installed[,] 747-400” and “Performance for Operation of PW4000 Series Engines with FB2B or FB2T Fans Installed[,] 767-200/767-300,” dated November 1, 2000, as applicable. (Note: The attachment titles are indicated only on the first page of each attachment; no other page contains this information.) This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on February 6, 2001.

Issued in Renton, Washington, on January 9, 2001.
Donald L. Riggin,
Acting Manager, Transport Airplane Directorate, Aircraft Certification Service.

[FR Doc. 01-1234 Filed 1-19-01; 8:45 am]

BILLING CODE 4910-13-P